DEPARTMENT OF COMMERCE

National Oceanic and Atmospheric Administration

[RTID 0648-XF013]

Marine Mammals; File No. 23802

AGENCY: National Marine Fisheries Service (NMFS), National Oceanic and Atmospheric Administration (NOAA), Commerce.

ACTION: Notice; issuance of a permit amendment.

SUMMARY: Notice is hereby given that a minor amendment has been issued to Scientific Research Permit No. 23802 for the University of Florida, Aquatic Animal Health Program, College of Veterinary Medicine, 2015 SW 16th Avenue, Gainesville, FL 32608 (Responsible Party: Michael Walsh, D.V.M.).

ADDRESSES: The amendment and related documents are available for review upon written request via email to NMFS.Pr1Comments@noaa.gov.

FOR FURTHER INFORMATION CONTACT: Shasta McClenahan, Ph.D., or Jennifer Skidmore, (301) 427-8401.

SUPPLEMENTARY INFORMATION: The requested amendment has been granted under the authority of the Marine Mammal Protection Act of 1972, as amended (16 U.S.C. 1361 et seq.) and the regulations governing the taking and importing of marine mammals (50 CFR part 216), the Endangered Species Act of 1973, as amended (16 U.S.C. 1531 et seq.), the regulations governing the taking, importing, and exporting of endangered and threatened species (50 CFR parts 222-226), and the Fur Seal Act of 1966, as amended (16 U.S.C. 1151 et seq.).

The original permit issued on November 16, 2020 (85 FR 79169, December 9, 2020) is valid through November 30, 2025 and authorizes the applicant to receive, import, and export marine mammal parts to (1) analyze diagnostic samples; and (2) discover, investigate, and determine baseline levels for marine mammal health, infectious disease, microbiome, genetics, toxins, contaminants, nutrition, and reproduction. The minor amendment extends the duration of the permit through November 30, 2026, but does not change any other terms or conditions of the permit.

Dated: July 3, 2025.
Shannon Bettridge,
Chief, Marine Mammal and Sea Turtle Conservation Division, Office of Protected Resources, National Marine Fisheries Service.

[FR Doc. 2025-12692 Filed 7-7-25; 8:45 am]

BILLING CODE 3510-22-P